DEPARTMENT OF THE TREASURY

Office of Foreign Assets Control

Notice of OFAC Sanctions Actions

AGENCY: Office of Foreign Assets Control, Treasury.

ACTION: Notice.

SUMMARY: The Department of the Treasury's Office of Foreign Assets Control (OFAC) is publishing the names of two persons and four vessels that have been placed on OFAC's Specially Designated Nationals and Blocked Persons List (SDN List) based on OFAC's determination that one or more applicable legal criteria were satisfied. All property and interests in property subject to U.S. jurisdiction of these persons and these vessels are blocked, and U.S. persons are generally prohibited from engaging in transactions with them.

DATES: See SUPPLEMENTARY INFORMATION section for applicable date(s).

FOR FURTHER INFORMATION CONTACT: OFAC: Bradley Smith, Director, tel.: 202-622-2490; Associate Director for Global Targeting, tel.: 202-622-2420; Assistant Director for Licensing, tel.: 202-622-2480; Assistant Director for Regulatory Affairs, tel.: 202-622-4855; or Assistant Director Compliance, tel.: 202-622-2490.

SUPPLEMENTARY INFORMATION:

Electronic Availability

The SDN List and additional information concerning OFAC sanctions programs are available on OFAC's website (https://www.treasury.gov/ofac).

Notice of OFAC Action(s)

On January 12, 2024, OFAC determined that the property and interests in property subject to U.S. jurisdiction of the following persons and the following vessels subject to U.S. jurisdiction are blocked under the relevant sanctions authority listed below.

Entities

1. GLOBAL TECH MARINE SERVICES INC, Trust Company Complex, Ajeltake Road, Majuro, Ajeltake Island 96960, Marshall Islands; 8th Floor, Arenco Tower, Sheikh Zayed Road, Dubai, United Arab Emirates; Secondary sanctions risk: section 1(b) of Executive Order 13224, as amended by Executive Order 13886; Organization Established Date 15 Dec 2020; Identification Number IMO 6197743; Business Registration Number 107145 (Marshall Islands) [SDGT] (Linked To: AL-JAMAL, Sa'id Ahmad Muhammad).

Designated pursuant to section 1(a)(iii)(C) of Executive Order 13224 of September 23, 2001, “Blocking Property and Prohibiting Transactions With Persons Who Commit, Threaten to Commit, or Support Terrorism” (E.O. 13224), 3 CFR, 2019 Comp., p. 356., as amended by Executive Order 13886 of September 9, 2019, “Modernizing Sanctions To Combat Terrorism,” 84 FR 48041 (E.O. 13224, as amended) for having materially assisted, sponsored, or provided financial, material, or technological support for, or goods or services to or in support of, SA'ID AL-JAMAL (AL-JAMAL), a person whose property and interests in property are blocked pursuant to E.O. 13224, as amended.

2. CIELO MARITIME LTD (a.k.a. CIELO MARITIME LIMITED), Room 6, 17th Floor, Wellborne Commercial Centre, 8, Java Road, North Point, Hong Kong, China; Secondary sanctions risk: section 1(b) of Executive Order 13224, as amended by Executive Order 13886; Organization Established Date 28 May 2023; Identification Number IMO 6410134; Registration Number 75354250 (Hong Kong) [SDGT] (Linked To: AL-JAMAL, Sa'id Ahmad Muhammad).

Designated pursuant to section 1(a)(iii)(C) of E.O. 13224, as amended, for having materially assisted, sponsored, or provided financial, material, or technological support for, or goods or services to or in support of, AL-JAMAL, a person whose property and interests in property are blocked pursuant to E.O. 13224, as amended.

Vessels

1. FORTUNE GALAXY (3E2520) Crude Oil Tanker Panama flag; Secondary sanctions risk: section 1(b) of Executive Order 13224, as amended by Executive Order 13886; Vessel Registration Identification IMO 9257010; MMSI 352001505 (vessel) [SDGT] (Linked To: GLOBAL TECH MARINE SERVICES INC).

Identified pursuant to E.O. 13224, as amended, as property in which GLOBAL TECH MARINE SERVICES INC, a person whose property and interests in property are blocked pursuant to E.O. 13224, as amended, has an interest.

2. MOLECULE (TJMC241) Crude Oil Tanker Cameroon flag; Secondary sanctions risk: section 1(b) of Executive Order 13224, as amended by Executive Order 13886; Vessel Registration Identification IMO 9209300; MMSI 613003214 (vessel) [SDGT] (Linked To: GLOBAL TECH MARINE SERVICES INC).

Identified pursuant to E.O. 13224, as amended, as property in which GLOBAL TECH MARINE SERVICES INC, a person whose property and interests in property are blocked pursuant to E.O. 13224, as amended, has an interest.

3. SINCERE 02 (3E4733) Oil Products Tanker Kiribati flag; Secondary sanctions risk: section 1(b) of Executive Order 13224, as amended by Executive Order 13886; Vessel Registration Identification IMO 9226011; MMSI 352002984 (vessel) [SDGT] (Linked To: GLOBAL TECH MARINE SERVICES INC).

Identified pursuant to E.O. 13224, as amended, as property in which GLOBAL TECH MARINE SERVICES INC, a person whose property and interests in property are blocked pursuant to E.O. 13224, as amended, has an interest.

4. MEHLE (3E3893) Crude Oil Tanker Panama flag; Secondary sanctions risk: section 1(b) of Executive Order 13224, as amended by Executive Order 13886; Vessel Registration Identification IMO 9191711; MMSI 352002537 (vessel) [SDGT] (Linked To: CIELO MARITIME LTD).

Identified pursuant to E.O. 13224, as amended, as property in which CIELO MARITIME LTD, a person whose property and interests in property are blocked pursuant to E.O. 13224, as amended, has an interest.

Dated: January 18, 2024.
Bradley T. Smith,
Director, Office of Foreign Assets Control, U.S. Department of the Treasury.

[FR Doc. 2024-01556 Filed 1-25-24; 8:45 am]

BILLING CODE 4810-AL-P